DEPARTMENT OF DEFENSE

Department of the Army, Corps of Engineers

National Wetland Plant List

AGENCY: U.S. Army Corps of Engineers, DoD.

ACTION: Notice.

SUMMARY: The National Wetland Plant List (NWPL) provides plant species indicator status ratings, which are used in determining whether the hydrophytic vegetation factor is met when conducting wetland delineations under the Clean Water Act and section 10 of the Rivers and Harbors Act and wetland determinations under the Wetland Conservation Provisions of the Food Security Act. Other applications of the NWPL include wetland restoration, establishment, and enhancement projects. To update the NWPL, U.S. Army Corps of Engineers (USACE), as part of an interagency effort with the U.S. Environmental Protection Agency (EPA), the U.S. Fish and Wildlife Service (FWS) and the U.S. Department of Agriculture Natural Resources Conservation Service (NRCS), is announcing the availability of the draft changes to the 2024 NWPL to solicit public comments. The public will now have the opportunity to comment on the proposed changes to wetland indicator status ratings for ten plant species over five different regions.

DATES: Comments must be submitted on or before March 31, 2025.

ADDRESSES: U.S. Army Corps of Engineers, Attn: CECW-CO-R, 441 G Street NW, Washington, DC 20314-1000.

FOR FURTHER INFORMATION CONTACT: Brianne McGuffie, Headquarters, U.S. Army Corps of Engineers, Operations and Regulatory Community of Practice, Washington, DC 20314-1000, by phone at 202-761-4750 or by email at brianne.e.mcguffie@usace.army.mil.

SUPPLEMENTARY INFORMATION:

Background

The U.S. Army Corps of Engineers (USACE) administers the NWPL for the United States (U.S.) and its territories. Responsibility for the NWPL was transferred to USACE from the FWS in 2006. The NWPL has undergone several revisions since its inception in 1988. Additions or deletions to the NWPL represent new records, range extensions, nomenclatural and taxonomic changes, and newly proposed species. The latest review process began in 2024 and included review by Regional Panels (RPs) and the National Panel (NP).

Wetland Indicator Status Ratings

On the NWPL, there are five categories of wetland indicator status ratings used to indicate a plant's likelihood for occurrence in wetlands versus non-wetlands: Obligate Wetland (OBL), Facultative Wetland (FACW), Facultative (FAC), Facultative Upland (FACU), and Upland (UPL). These rating categories are defined by the NP as follows: OBL—almost always occur in wetlands; FACW—usually occur in wetlands but may occur in non-wetlands; FAC—occur in wetlands and non-wetlands; FACU—usually occur in non-wetlands but may occur in wetlands; UPL—almost always occur in non-wetlands. These category definitions are qualitative descriptions that better reflect the qualitative supporting information, rather than numeric frequency ranges. The percentage frequency categories used in the older definitions are only used for testing problematic or contested species being recommended for indicator status changes. All other previously utilized indicator designations are no longer used on the NWPL. More information on the specifics of how to use these ratings is available on the NWPL website at https://wetland-plants.sec.usace.army.mil/.

The NWPL is utilized in conducting wetland determinations under the authority of section 404 of the Clean Water Act (33 U.S.C. 1344) and section 10 of the Rivers and Harbors Act of 1899 (33 U.S.C. 401 et seq.) and wetland determinations under the authority of the Food Security Act of 1985 (16 U.S.C. 3801 et seq.). For the purposes of determining how often a species occurs in wetlands, wetlands are defined as either (1) those areas that are inundated or saturated by surface or ground water at a frequency and duration sufficient to support, and that under normal circumstances do support, a prevalence of vegetation typically adapted for life in saturated soil conditions (33 CFR 328.3) or (2) “except when such term is part of the term `converted wetland,' means land that has a predominance of hydric soils; is inundated or saturated by surface or groundwater at a frequency and duration sufficient to support a prevalence of hydrophytic vegetation typically adapted for life in saturated soil conditions; and under normal circumstances does support a prevalence of such vegetation, except that this term does not include lands in Alaska identified as having a high potential for agricultural development and a predominance of permafrost soils.” (16 U.S.C. 3801(a)(27) and 7 CFR 12.2). Because each plant species being evaluated occurs as part of a vegetation assemblage, examining all species present in relation to their assigned wetland fidelity may be useful in assessing hydrophytic vegetation.

2024 Update Information

For the 2024 NWPL update, requested wetland indicator status rating changes were submitted by the public. One member of the public submitted a request to change the wetland indicator status rating for Cicendia quadrangularis to FAC in the Arid West region. However, the submitter's requested change is already reflected on the NWPL. Since the requested indicator status rating of FAC is the same wetland indicator status rating already contained in the NWPL, no change is being proposed by the NWPL NP for this species. The NWPL NP and pertinent RPs reviewed the proposed changes for two other species, Alnus incana and Amaranthus tuberculatus, and made recommendations for the proposed 2024 wetland indicator status ratings for these species detailed below.

Species | Region(s) * | Current 2022 NWPL rating | Proposed 2024 NWPL rating
Alnus incana | AGCP, EMP | FACU | FACW.
Amaranthus tuberculatus | MW, NCNE | OBL | FACW.
* AGCP—Atlantic and Gulf Coastal Plain; EMP—Eastern Mountains and Piedmont; MW—Midwest; NCNE—Northcentral and Northeast.

For the 2024 NWPL update, the Alaska RP requested an evaluation of the wetland indicator status ratings for eight species in the Alaska region which have different wetland indicator status ratings for certain subregions within Alaska. The U.S. Army Engineer Research and Development Center, in collaboration with the Alaska RP, evaluated the subregional wetland indicator status ratings for those eight species using repeatable methods for assignment of wetland indicator status rating, including multiple correspondence analysis, analysis of similarity, non-metric multidimensional scaling, principal component analysis, and machine learning techniques. Based on the results of this research (Whitecloud et al., 2024), as well as input from the NWPL NP and the Alaska RP, we propose the following changes, which are summarized in the table below. A copy of this report can be reviewed at the following link: http://dx.doi.org/10.21079/11681/49509. Note: no changes are being proposed to the overall Alaska regional wetland indicator status ratings. Subregion acronyms are defined below the recommendations table.

1. Andromeda polifolia—for the two examined subregions with adequate sample size (IAL, UKK), change wetland indicator status rating from OBL to FACW. The wetland indicator status rating remains OBL in IAM. For the two examined subregions without adequate sample size (CRB, IBR), the wetland indicator status rating will remain OBL, as there was not sufficient data to support an indicator status change.

2. Arctous rubra—change the wetland indicator status rating for all subregions examined (WBR, NBR, NSL, SPH) to match the state wetland indicator status rating of FAC.

3. Carex canescens—no change to the subregion wetland indicator status rating of FAC, as none of the five subregions examined (IAL, IAM, CRB, IBR, UKK) had adequate sample size to support a different indicator.

4. Rhododendron tomentosum—change the wetland indicator status rating for the subregion examined (PDA) to match the state wetland indicator status rating of FACW.

5. Rubus arcticus—no change to the subregion wetland indicator status rating of FACU. Retention of FACU is supported by the analyses for three subregions (IAH, IAM, CRB), but two subregions (IAL and IBR) did not have enough data for analysis, so remain unchanged.Salix arctica—remains FAC in ACP (supported by analyses) and NSL (not enough data to support change). WBR and SPH are reassigned from FAC to FACU to match the state.

6. Salix pulchra—change the wetland indicator status rating for all subregions examined (WBR, PDA) to match the state wetland indicator status rating of FACW.

7. Viola palustris—change the rating for AKI from FAC to FACW. For the purposes of this proposed change, the change from FAC to FACW for Viola palustris will apply to Major Land Resource Areas (MLRA) 230 (Yukon-Kuskokwim Highlands) and 232 (Yukon Flats Lowland). Under this proposal, the other NWPL subregions (i.e., MLRAs) found in AKI (CBR, IAH, IAL, IAM, IBR, PDA) will remain FAC. Retention of FAC for IAH and IAM is supported by analyses; the remaining subregions did not have enough data.

Species name | Current Alaska rating | Subregion | Current NWPL subregion rating | Proposed 2024 NWPL subregion rating
Andromeda polifolia | FACW | IAL | OBL | FACW.
|  | IAM | OBL | OBL.
|  | CRB | OBL | OBL.
|  | IBR | OBL | OBL.
|  | UKK | OBL | FACW.
Arctous rubra | FAC | WBR | FACW | FAC.
|  | NBR | FACW | FAC.
|  | NSL | FACW | FAC.
|  | SPH | FACW | FAC.
Carex canescens | FACW | IAL | FAC | FAC.
|  | IAM | FAC | FAC.
|  | CRB | FAC | FAC.
|  | IBR | FAC | FAC.
|  | UKK | FAC | FAC.
Rhododendron tomentosum | FACW | PDA | FAC | FACW.
Rubus arcticus | FAC | IAH | FACU | FACU.
|  | IAL | FACU | FACU.
|  | IAM | FACU | FACU.
|  | CRB | FACU | FACU.
|  | IBR | FACU | FACU.
Salix arctica | FACU | ACP | FAC | FAC.
|  | WBR | FAC | FACU.
|  | NSL | FAC | FAC.
|  | SPH | FAC | FACU.
Salix pulchra | FACW | WBR | FAC | FACW.
|  | PDA | FAC | FACW.
Viola palustris | FACW | AKI | FAC | FACW.
|  | IAH | FAC | FAC.
|  | IAL | FAC | FAC.
|  | IAM | FAC | FAC.
|  | CRB | FAC | FAC.
|  | IBR | FAC | FAC.
|  | PDA | FAC | FAC.
ACP—Arctic Coastal Plain; AKI—Alaska Interior; CRB—Copper River Basin; IAH—Interior Alaska Highlands; IAL—Interior Alaska Lowlands; IAM—Interior Alaska Mountains; IBR—Interior Brooks Range; NBR—Northern Brooks Range; NSL—Northern Seward Peninsula; PDA—Pebble/Donlin/Aniak; SPH—Seward Peninsula Highlands; UKK—Upper Kobuk-Koyukuk; WBR—Western Brooks Range.

Instructions for Providing Comments

USACE encourages public input in the form of data, comments, literature references, or field experiences, to help clarify the status of the species reviewed for this update. Comments on these proposed changes should be emailed to nwpl@usace.army.mil. Users are encouraged to submit literature citations, herbaria records, experiential references, monitoring data, photographic documentation, and other relevant information. Specific knowledge of, or studies related to, individual species are particularly helpful. When providing input or information on the draft changes to the 2024 NWPL update, commenters should use their regional botanical and ecological expertise, field observations, reviews of the most recent indicator status information, appropriate botanical literature, floras, herbarium specimens with notation of habitat and associated species, habit data, relevant studies, and historic list information. Providing ratings without supporting documentation or information is not recommended. All submitted comments and information will be compiled and sent to the NP for their review and consideration.

Detailed information on the update process, protocol, and technical issues can be found in the following documents, which are available on the “References/Resources” web page:

• Lichvar, Robert W. and Paul Minkin. Concepts and Procedures for Updating the National Wetland Plant List. 2008. ERDC/CRREL TN-08-3. Hanover, NH: U.S. Army Engineer Research and Development Center, Cold Regions Research and Engineering Laboratory.

• Lichvar, Robert W. and Jennifer J. Gillrich. Final Protocol for Assigning Wetland Indicator Status Ratings during National Wetland Plant List Update. 2011. ERDC/CRREL TN-11-1. Hanover, NH: U.S. Army Engineer Research and Development Center, Cold Regions Research and Engineering Laboratory.

• Lichvar Robert W., Norman C. Melvin, Mary L. Butterwick, and William N. Kirchner. 2012. National Wetland Plant List Indicator Rating Definitions. ERDC/CRREL TN-12-1. Hanover, NH: U.S. Army Engineer Research and Development, Center Cold Regions Research and Engineering Laboratory.

• Whitecloud, Simone W., Philley, Kevin D., Minkin, J. Paul, Antrim, Anna K., Lichtner, Franz J., Wuerslin, Nicole A., Barker, Natalie. D., Gong, Ping., Campellone, Estrella F., Gordon, Kyle B., and Wilson, Matthew S. (2024). Assessing the validity and accuracy of Wetland Indicator Status Ratings for eight species in Alaska subregions. ERDC TR- 24-26. Vicksburg, MS: U.S. Army Engineer Research and Development Center.

Future Actions

Submissions throughout the review period will be compiled and reviewed prior to each NWPL update and any resulting proposed changes will be reflected in the subsequent notice of an updated list. Future updates to the NWPL will occur on a to be determined schedule. A change in indicator status for a given species, or a proposed species addition may be requested at any time at https://wetland-plants.sec.usace.army.mil/ under “Submit NWPL Change Request.”

Stephen L. Hill,
Director, Operations and Regulatory Programs.

[FR Doc. 2025-01798 Filed 1-27-25; 8:45 am]

BILLING CODE 3720-58-P